NUCLEAR REGULATORY COMMISSION

[Docket Nos. 50-271 and 50-305; NRC-2015-0200]

Entergy Nuclear Operations, Inc., and Dominion Energy Kewaunee, Inc.; Vermont Yankee Nuclear Power Station and Kewaunee Power Station

AGENCY: Nuclear Regulatory Commission.

ACTION: Request for action; issuance.

SUMMARY: The U.S. Nuclear Regulatory Commission (NRC) has issued a director's decision on a petition dated March 25, 2014 [sic], filed by Michael Mulligan (the petitioner), requesting that the NRC take action regarding the Vermont Yankee Nuclear Power Station (VY) and the Kewaunee Power Station (KPS). The petitioner's requests and the director's decision are included in the SUPPLEMENTARY INFORMATION section of this document.

ADDRESSES: Please refer to Docket ID NRC-2015-0200 when contacting the NRC about the availability of information regarding this document. You may obtain publicly-available information related to this document using any of the following methods:

• Federal Rulemaking Web site: Go to http://www.regulations.gov and search for Docket ID NRC-2015-0200. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Stephen Koenick, Office of Nuclear Reactor Regulation, U.S. Nuclear Regulatory Commission, Washington DC 20555-0001; telephone: 301-415-6631; email: Stephen.Koenick@nrc.gov.

SUPPLEMENTARY INFORMATION:

Notice is hereby given that the Director, Office of Nuclear Reactor Regulation, has issued a director's decision (ADAMS Accession No. ML16054A731) on a petition filed by the petitioner on March 25, 2014 [sic] (ADAMS Accession No. ML15090A487). The petition was supplemented by emails dated July 7, 2015 (ADAMS Accession No. ML15198A091), and September 9, 2015 (ADAMS Accession No. ML15286A003).

The petitioner requested that the NRC take a number of actions regarding VY and KPS, which have been permanently shut down and are currently undergoing decommissioning, to include:

• Conduct exigent and immediate full-scale ultrasonic inspections on the VY and the KPS reactor pressure vessels (RPVs), with similar or better technology, as conducted on the RPVs at Doel 3 and Tihange 2, which revealed thousands of cracks.

• Take large borehole samples out of both the VY and KPS RPVs and transport them to a respected metallurgic laboratory for comprehensive offsite testing.

• Issue an immediate NRC report and hold a public meeting on any identified vulnerabilities.

• Ultrasonically test all RPVs in U.S. plants within 6 months if distressed and unsafe results are discovered at VY or KPS.

As the basis of the request, the petitioner asserted that the requested actions should be taken to determine whether foreign operating experience (OpE)—specifically several thousand cracks that have been discovered during testing on the Doel 3 and Tihange 2 RPVs—could have implications on U.S. operating reactors. The petitioner also requested several related actions of the NRC, such as, collaboration with the Belgian regulator, and posed several questions related to water chemistry and the discovered cracks.

On May 19, 2015, the petitioner spoke with the NRC's Petition Review Board. The teleconference provided the petitioner and the licensees an opportunity to provide additional information and to clarify issues cited in the petition. The transcript for that teleconference is available in ADAMS under Accession No. ML15181A127.

The NRC sent a copy of the proposed director's decision to the petitioner and the licensees for comment on January 20, 2016 (ADAMS Accession Nos. ML15286A235, ML15286A265, and ML15286A258, respectively). The petitioner and the licensees were asked to provide comments within 14 days on any part of the proposed director's decision that was considered to be erroneous or any issues in the petition that were not addressed. The petitioner's comments are addressed in the final director's decision. The NRC staff did not receive any comments from the licensees on the proposed director's decision.

The Director of the Office of Nuclear Reactor Regulation has determined that the requests, to require the licensees to conduct exigent and immediate full scale ultrasonic inspections on the VY and the KPS RPVs, with similar or better technology, as conducted on the RPVs at Doel 3 and Tihange 2; to require the licensees to take large borehole samples out of both the VY and KPS RPVs and transport them to a respected metallurgic laboratory for comprehensive offsite testing; and associated follow-on requested actions be denied. The reasons for this decision are explained in the director's decision DD-16-01 pursuant to section 2.206 of title 10 of the Code of Federal Regulations (10 CFR) of the Commission's regulations.

The NRC will file a copy of the director's decision with the Secretary of the Commission for the Commission's review in accordance with 10 CFR 2.206. The director's decision will constitute the final action of the Commission 25 days after the date of the decision unless the Commission, on its own motion, institutes a review of the director's decision in that time.

Dated at Rockville, Maryland, this 29th day of March 2016.
For the Nuclear Regulatory Commission.
Michele G. Evans,
Deputy Director, Office of Nuclear Reactor Regulation.

[FR Doc. 2016-07752 Filed 4-4-16; 8:45 am]

BILLING CODE 7590-01-P